DEPARTMENT OF THE TREASURY

Internal Revenue Service

Open Meeting of the Taxpayer Advocacy Panel's Special Projects Committee; Change

AGENCY: Internal Revenue Service (IRS), Treasury.

ACTION: Notice of meeting; Change.

SUMMARY: In the Federal Register notice that was originally published on February 21, 2018, (Volume 83, Number 35, Page 7554) the meeting location has changed from Dallas, Texas to Houston, Texas. The meeting will take place in Houston, Texas on Monday, March 19, 2018 and Tuesday, March 20, 2018.

DATES: The meeting will be held Monday, March 19, 2018 and Tuesday, March 20, 2018.

FOR FURTHER INFORMATION CONTACT: Matthew O'Sullivan at 1-888-912-1227 or (510) 907-5274.

SUPPLEMENTARY INFORMATION: Notice is hereby given pursuant to Section 10(a)(2) of the Federal Advisory Committee Act, 5 U.S.C. App. (1988) that an open meeting of the Taxpayer Advocacy Panel's Special Projects Committee will be held Monday, March 19, 2018, from 1:00 p.m. to 5:00 p.m. Central Time and Tuesday, March 20, 2018, from 8:00 a.m. until 5:00 p.m. Central Time at the IRS Office in Houston, Texas. The public is invited to make oral comments or submit written statements for consideration. Due to limited time and structure of meeting, notification of intent to participate must be made with Matthew O'Sullivan. For more information please contact Matthew O'Sullivan at 1-888-912-1227 or (510) 907-5274, or write TAP Office, 1301 Clay Street, Oakland, CA 94612-5217 or contact us at the website: http://www.improveirs.org. The agenda will include various IRS issues.

Dated: February 26, 2018.
Antoinette Ross,
Acting Director, Taxpayer Advocacy Panel.

[FR Doc. 2018-04296 Filed 3-1-18; 8:45 am]

BILLING CODE 4830-01-P